FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than August 25. 2003.

A. Federal Reserve Bank of Atlanta (Sue Costello, Vice President) 1000 Peachtree Street, N.E., Atlanta, Georgia 30309-4470:

1. Anita Marie Fontenot (Melancon), and Dames Fontenot, both of Lafayette, Louisiana; Rachel Fontenot Wyble, Carencro, Louisiana; and Carl Winn Fontenot, Chad David Fontenot, Craig Dwaine Fontenot, David Joseph Fontenot, and Vickie Lynn Fontenot (Bergeron), all of Ville Platte, Louisiana; to acquire voting shares of Citizens Bancshares, Inc., Ville Platte. Louisiana, and thereby indirectly acquire voting shares of Citizens Bank, Ville Platte, Louisiana.

Board of Governors of the Federal Reserve System, August 5, 2003.
Jennifer J. Johnson,
Secretary of the Board.

[FR Doc. 03-20419 Filed 8-8-03; 8:45 am]

BILLING CODE 6210-01-S